AGENCY FOR INTERNATIONAL DEVELOPMENT

Notice of Meeting

Pursuant to the Federal Advisory Committee Act, notice is hereby given of a meeting of the Advisory Committee on Voluntary Foreign Aid (ACVFA).

Date: October 9, 2002 (9 a.m. to 5 p.m.).

Location: National Press Club, 529 14th St., NW., 13th Floor, Washington, DC.

This meeting will feature discussion of the Administration's development assistance initiatives, including the Millennium Challenge Account, the Global Development Alliance, and four major partnerships announced at the World Summit on Sustainable Development. Participants will have an opportunity to ask questions of the speakers and to discuss the issues in more depth in small groups.

The meeting is free and open to the public. Persons wishing to attend the meeting can fax or e-mail their name to Larritus Jackson, 202-347-9212, pvcsupport@datexinc.com.

Dated: August 28, 2002.
Noreen O'Meara,
Executive Director, Advisory Committee on Voluntary Foreign Aid (ACVFA).

[FR Doc. 02-22673 Filed 9-5-02; 8:45 am]

BILLING CODE 6116-01-P